DEPARTMENT OF TRANSPORTATION

Federal Aviation Administration

First Meeting: RTCA Special Committee 225: Rechargeable Lithium Batteries and Battery Systems—Small and Medium Sizes

AGENCY: Federal Aviation Administration (FAA), DOT.

ACTION: Notice of RTCA Special Committee 225 meeting: Rechargeable Lithium Batteries and Battery Systems—Small and Medium Sizes.

SUMMARY: The FAA is issuing this notice to advise the public of a meeting of RTCA Special Committee 225: Rechargeable Lithium Batteries and Battery Systems—Small and Medium Sizes.

DATES: The meeting will be held March 1-2, 2011, from 9 a.m. to 5 p.m.

ADDRESSES: The meeting will be held at RTCA, Inc., 1828 L Street, NW., Suite 805, Washington, DC 20036.

FOR FURTHER INFORMATION CONTACT: RTCA Secretariat, 1828 L Street, NW., Suite 805, Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 225, Rechargeable Lithium Batteries and Battery Systems—Small and Medium Sizes.

Agenda

Tuesday March 1, 2011

• Welcome/Introductions/Administrative Remarks Workgroup Reports

• Chair—Richard Nguyen (Boeing)

• Program Director—Hal Moses (RTCA)

• Designated FAA Official—Norman Pereira (FAA)

• All participants/members

• Agenda Overview—Richard Nguyen

• RTCA Functional Overview—Hal Moses

• Current Committee Scope, Terms of Reference Overview

• Presentation, Discussion, and Recommendations

• Determine and request participation of other members/groups

• Establish and review major milestones and deliverables

• Organization of Work, Assign Tasks and Workgroups

• Presentation, Discussion, Recommendations

• Assignment of Responsibilities

• Review and establish agenda for Wednesday, March 2, 2011

Wednesday March 2, 2011

• Review Agenda, Other Actions

• Working Groups meeting

• Working Group report, review progress and actions

• Other Business

• Establish Agenda for Next Meeting

• Date and Place of Next Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on January 27, 2011.
Robert L. Bostiga,
RTCA Advisory Committee.

[FR Doc. 2011-2318 Filed 2-2-11; 8:45 am]

BILLING CODE 4910-13-P